DEPARTMENT OF HEALTH AND HUMAN SERVICES

Administration for Children and Families

Award Announcement; Administration on Children, Youth and Families

AGENCY: Administration on Children, Youth and Families, Administration for Children and Families, Department of Health and Human Services.

ACTION: Award announcement.

CFDA No.: 93.550, 93.623, 93.557.

SUMMARY: The Administration on Children, Youth and Families (ACYF), Family and Youth Services Bureau (FYSB) announces the approval of a deviation to supplement the National Runaway Switchboard for the purpose of expanding their services. Congress authorized the establishment of a “national communications system to assist runaway and homeless youth in making contact with their families and service providers” through the Runaway and Homeless Youth Act (RHYA) of the Juvenile Justice and Delinquency Prevention Act of 1974, as amended. Funding for the system was first authorized in fiscal year 1980. (The system currently is authorized through Part C, section 331, of the “Runaway, Homeless, and Missing Children Protection Act,” Pub. L. 108-96.)

The Administration on Children, Youth and Families, Family and Youth Services Bureau (FYSB), herein announces an expansion supplement award to the National Runaway Switchboard (NRS) for two initiatives; a comprehensive research project on runaway and at-risk youth and a comprehensive database conversion.

The results of the comprehensive research project will enable NRS to better understand how to communicate with youth and develop strategies to connect with them and them with the NRS. The comprehensive database conversion will enhance the Switchboard's capability to download and manage information. This project will provide the NRS with the internal controls necessary to query and analyze data collected in their crisis logs. It is anticipated that the enhanced internal controls will result in a significant improvement in the way needs of runaway, homeless and other youth in at-risk situations are met. This expansion supplement is for a nine month project period for the amount of $162,637.

FOR FURTHER INFORMATION CONTACT: Curtis O. Porter, Acting Associate Commissioner, Family and Youth Services Bureau, ACYF, ACF, DHHS. Portals Building, 1250 Maryland Avenue, SW., Washington, DC 20024; 202-205-8102.

Dated: September 28, 2007.
Susan Orr,
Associate Commissioner, Administration on Children, Youth and Families.

[FR Doc. E7-19886 Filed 10-9-07; 8:45 am]

BILLING CODE 4184-01-P